DEPARTMENT OF THE INTERIOR

National Park Service

[NPS-WASO-NAGPRA-NPS0039805; PPWOCRADN0-PCU00RP14.R50000]

Notice of Inventory Completion: Sam Noble Oklahoma Museum of Natural History, Norman, OK

AGENCY: National Park Service, Interior.

ACTION: Notice.

SUMMARY: In accordance with the Native American Graves Protection and Repatriation Act (NAGPRA), the Sam Noble Oklahoma Museum of Natural History (SNOMNH) has completed an inventory of human remains and associated funerary objects and has determined that there is a cultural affiliation between the human remains and associated funerary objects and Indian Tribes or Native Hawaiian organizations in this notice.

DATES: Repatriation of the human remains and associated funerary objects in this notice may occur on or after May 2, 2025.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH, and additional information on the determinations in this notice, including the results of consultation, can be found in the inventory or related records. The National Park Service is not responsible for the determinations in this notice.

Abstract of Information Available

Human remains representing, at least, 268 individuals were removed from the Akers site (34Lf32) in LeFlore County, OK. This site was excavated by the Works Progress Administration in 1941 and transferred to the Museum the same year. The human remains include 68 adult females, 43 adult males, 19 adolescents, 35 children, four infants, 44 adult probable females, 19 adult probable males, 33 adults for whom sex could not be determined, and three individuals for whom age and sex could not be determined. No known individuals were identified. The 313 associated funerary objects are eight complete ceramic vessels, 11 ceramic vessel fragments, 30 bags of potsherds, 63 stone projectile points, six manos, six boatstones, three stone celts, two stone knives, two paintstones, one stone gorget, one ceramic conical miniature bowl, one stone atlatl weight, seven worked stones, five unmodified stones, six bone awls, two bags of awl fragments, three bags of bone beads, three bone hair pins, one bag of animal tooth pendants, 11 bags of worked bone, eight bags of deer antler fragments, one partial dog skeleton, three bags of turtle shell fragments, two bags of beaver teeth, one bag of dog teeth, 104 bags of animal bone, five bags of worked shell, three bags of shell beads, two worked conch shells, one shell pendant, one unmodified conch shell, seven bags of shell fragments, one burned wood fragment, one bag of wood post fragments, and one pecan shell. The human remains and associated funerary objects from site 34Lf32 were interred during the Fort Coffee phase (A.D. 1450-1600).

Human remains representing, at least, 16 individuals were removed from the Henry Heflin II site (34Lf13) in LeFlore County, OK. This site was excavated by the Works Progress Administration in 1941 and transferred to the Museum the same year. The human remains include three adult females, five adult males, one child, four probable adult females, two probable adult males, and one adult for whom sex could not be determined. The 12 associated funerary objects are four stone projectile points, two bags of paintstones, one worked stone, one worked animal bone, one bag of deer antler fragments, one animal tooth, and two bags of animal bone fragments.

Cultural Affiliation

Based on the information available and the results of consultation, cultural affiliation is clearly identified by the information available about the human remains and associated funerary objects described in this notice.

Determinations

The SNOMNH has determined that:

• The human remains described in this notice represent the physical remains of 284 individuals of Native American ancestry.

• The 325 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after May 2, 2025. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice.

Authority: Native American Graves Protection and Repatriation Act, 25 U.S.C. 3003, and the implementing regulations, 43 CFR 10.10.

Dated: March 21, 2025.
Melanie O'Brien,
Manager, National NAGPRA Program.

[FR Doc. 2025-05601 Filed 4-1-25; 8:45 am]

BILLING CODE 4312-52-P